DEPARTMENT OF AGRICULTURE

Office of Civil Rights; Notice of Intent to Seek Approval to Collect Information

Correction

In notice document 04-14193 beginning on page 34990 in the issue of Wednesday, June 23, 2004, make the following correction:

On page 34990, in the first column, under FOR FURTHER INFORMATION CONTACT, in the seventh line, “Joe.mcneill@Usda.go ” should read “Joe.mcneill@Usda.gov. ”

[FR Doc. C4-14193 Filed 7-29-04; 8:45 am]

BILLING CODE 1505-01-D